DEPARTMENT OF THE INTERIOR

Bureau of Land Management

[WY-920-1320-EM, WYW6266]

Federal Coal Lease Modification

AGENCY: Bureau of Land Management, Interior.

ACTION: Notice of availability of the Decision Record Finding of No Significant Impact (DR/FONSI) and Environmental Assessment (EA) and notice of public hearing on the Modification of Federal Coal Lease WYW6266 at the Black Butte Mine operated by Black Butte Coal Company, in Sweetwater County, WY.

SUMMARY: Pursuant to the National Environmental Policy Act (NEPA) and implementing regulations and other applicable statutes, the Bureau of Land Management (BLM) announces the availability of the DR/FONSI for the modification of Federal coal lease WYW6266 east of Rock Springs, Wyoming, and announces the scheduled date and place for a public hearing pursuant to 43 CFR part 3432, 3425.3 and 3425.4. The DR/FONSI addresses the impacts of modifying this Federal coal lease and mining the modification area as a part of the Black Butte Mine, Pit 10 operated by Black Butte Coal Company, in Sweetwater County, WY. The purpose of the hearing is to solicit public comments on the DR/FONSI, the fair market value, the maximum economic recovery, and the proposed noncompetitive offer of the coal included in the proposed lease modification. This lease modification is being considered for offer as a result of a request received from Black Butte Coal Company on August 7, 2000. The tract as requested includes 80.00 acres containing approximately 2.6 million tons of Federal coal reserves.

DATES: A public hearing will be held at 1 p.m. MDT, on February 7, 2002, at the BLM Rock Springs Field Office, 280 Highway 191 North, Rock Springs, Wyoming. Written comments on the DR/FONSI will be accepted for 30 days from the date this notice is published.

ADDRESSES: Please address questions, comments or requests for copies of the DR/FONSI to the BLM Rock Springs Field Office, Attn: Scott Sanner, 280 Highway 191 North, Rock Springs, WY 82901; or you may fax them to 307-352-0329.

FOR FURTHER INFORMATION CONTACT: Scott Sanner or Ted Murphy at the above address, or phone: 307-352-0256.

SUPPLEMENTARY INFORMATION: The BLM Rock Springs Field Office has received a request to modify an existing Federal coal lease at the Black Butte Mine. This mine is operated by Black Butte Coal Company, and is located east of Rock Springs in Sweetwater County, WY. On August 7, 2000, Black Butte Coal Company filed an application with the BLM to modify Federal lease WYW6266 by adding the following lands:

T. 19 N., R. 100 W., 6th PM, Wyoming

Section 24: NWNW, W2NENW, N2SWNW.

This tract is adjacent to Black Butte Mine, Pit 10 and includes 80.00 acres more or less with an estimated 2.6 million tons of coal. This application was filed as a lease modification under the provisions of 43 CFR part 3432.

BLM believes that this lease modification serves the interest of the United States because it will avoid a bypass of Federal coal reserves. This area is a natural extension of the existing mine workings of the Black Butte Mine, Pit 10 of the current lease. This modification area is logically recovered as a part of the planned operations on the existing lease, and would avoid the bypass of these Federal coal reserves. This coal is ripe for recovery and is easily incorporated into Black Butte's current operation. If this coal is recovered in concert with the existing lease, it would result in minimal additional surface disturbance.

BLM further believes that there is no current competitive interest in the lands proposed for lease modification. Under the lease modification process, the modified lands would be added to the existing lease without competitive bidding. Before offering the lease modification the BLM will prepare an appraisal of the fair market value of the lease. The United States would receive fair market value of the lease for the added lands.

The proposed lease modification is within the mine permit area of the Black Butte Mine. No new facilities or employees would be needed to mine the coal. Physical extraction of these reserves would begin in 2004 and continue through 2007. BLM prepared a DR/FONSI for this action. If this tract is modified into the current lease, the new lands must be incorporated into the existing mining plans for the Black Butte Mine. The Office of Surface Mining Reclamation and Enforcement (OSM) is a cooperating agency in the preparation of the environmental document because it is the Federal agency that is responsible for any required actions necessary to incorporate these lands into the current mining plan.

In addition to preparing the DR/FONSI, BLM will also develop possible stipulations regarding mining operations, determine the fair market value of the tract and evaluate maximum economic recovery of the coal in the proposed tract while processing this lease modification.

Comments on the DR/FONSI, the fair market value, the maximum economic recovery, and the proposed noncompetitive offer of the coal included in the proposed lease modification, will be available for public review at the address below during regular business hours (7:45 a.m.-4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Dated: January 11, 2002.
Alan Rabinoff,
Deputy State Director, Minerals and Lands.

[FR Doc. 02-3454 Filed 2-12-02; 8:45 am]

BILLING CODE 4310-22-P